DEPARTMENT OF HEALTH AND HUMAN SERVICES

Centers for Disease Control and Prevention

[30Day-15-15UJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Examining How Local Health Departments Can Leverage Age-Friendly Cities Initiatives to Build Resilience in Elderly Populations—New—Office of Public Health Preparedness and Response, Centers for Disease Control and Prevention (CDC).

Background and Brief Description

Despite considerable progress in efforts to define and build community resilience (CR), critical gaps remain in addressing the needs of older adults (age 60+), which is expected to rise to 25% by 2050. Age Friendly Initiatives (AFIs), including Senior Villages (SV) represent a promising strategy for U.S. communities and cities to support older adults aging in place, and could potentially build CR. However, few AFIs have wholly incorporated the critical element of emergency preparedness and resilience. Even when these domains have been included, there is no evaluation of whether these efforts have resulted in improved resilience outcomes among seniors (e.g., greater self-sufficiency). This study will quantify the contribution that AFIs and SVs have made to improving resilience outcomes for older adults and provide guidance to local health departments (LHDs) for improving their engagement with AFIs/SVs.

The Office of Public Health Preparedness and Response proposes to conduct a new information collection, Examining How Local Health Departments Can Leverage Age-Friendly Cities Initiatives to Build Resilience in Elderly Populations. Information collection activities will target four groups. Respondents will include AFI Staff, Village Directors, LHD Representatives, and adults aged 65+ within the AFI and SV communities.

The study will outline where current AFIs and CR efforts align; conduct interviews in AFIs and SVs across the U.S. to understand relationships with LHDs; clarify the process through which policymakers can incorporate CR into AFIs; survey test sites in a quasi-experimental design of AFIs currently underway; and develop a toolkit to help LHDs identify the need for AFIs, evaluate and monitor AFIs ability to improve resilience, develop effective and efficient partnerships with AFIs to expand AFI-LHD efforts across the U.S to build community resilience.

OMB approval is requested for two years. Participation in the survey is voluntary. There are no costs to respondents other than their time. The total estimated annual burden hours are 302. A summary of annualized burden hours is below.

Estimated Annualized Burden Hours
Type of respondents | Form name | Number of respondents | Number of responses per respondent | Average burden per response (in hrs)
Age Friendly Initiative Staff | Interview Guide for Age Friendly Initiative Staff | 16 | 1 | 30/60
Senior Village Director | Interview Guide for Senior Village Director | 15 | 1 | 30/60
Local Health Department Representative | Interview Guide for Local Health Department Representative | 8 | 1 | 30/60
Older Adult—Screened Out | Senior Village Survey | 716 | 1 | 2/60
Older Adult—Participant | Senior Village Survey | 775 | 1 | 20/60

Leroy A. Richardson,
Chief, Information Collection Review Office, Office of Scientific Integrity, Office of the Associate Director for Science, Office of the Director, Centers for Disease Control and Prevention.

[FR Doc. 2015-18424 Filed 7-27-15; 8:45am]

BILLING CODE 4163-18-P